DEPARTMENT OF ENERGY

Federal Energy Regulatory Commission

Notice of Scoping Meeting and Soliciting Scoping Comments for an Applicant Prepared Environmental Assessment Using the Alternative Licensing Process

October 31, 2001.

a. Type of Application: Alternative Licensing Process.

b. Project No.: P-2586-023.

c. Applicant: Alabama Electric Cooperative, Inc.

d. Name of Project: Conecuh River Hydroelectric Project.

e. Location: On the Conecuh River near the towns of Gantt and River Falls, in Covington County, Alabama.

f. Filed Pursuant to: Federal Power Act, 16 USC §§ 791(a)—825(r).

g. Applicant Contact: Mike Noel, Environmental Engineer, Alabama Electric Cooperative, Inc., Post Office Box 550, Andalusia, AL 36420, (334) 427-3248.

h. FERC Contact: Ron McKitrick at (770) 452-3378 or ronald.mckitrick@ferc.fed.us.

j. Deadline for filing scoping comments: January 10, 2002.

All documents (original and eight copies) should be filed with: David P. Boergers, Secretary, Federal Energy Regulatory Commission, 888 First Street, NE, Washington, DC 20426.

Scoping comments may be filed electronically via the Internet in lieu of paper. See 18 CFR 385.2001(a)(1)(iii) and the instructions on the Commission's web site (http://www.ferc.gov) under the “e-Filing” link.

k. The Conecuh River Project consists of two developments: The existing Point “A” development consists of a 2,800-foot-long earthen dam, 700-acre reservoir, three generating units with an installed capacity of 5,200kW, and a 0.39-mile-long transmission line. The existing Gantt development consists of a 1,562-foot-long earthen dam, a 2,767-acre reservoir, and two generating units with an installed capacity of 3,050 kW.

l. Scoping Process

Alabama Electric Cooperative, Inc., (AEC) intends to utilize the Federal Energy Regulatory Commission's (Commission) alternative licensing process (ALP). Under the ALP, AEC will prepare an Applicant Prepared Environmental Assessment (APEA) and license application for the Conecuh River Hydroelectric Project.

AEC expects to file with the Commission, the APEA and the license application for the Conecuh Hydroelectric Project by April 2003.

The purpose of this notice is to inform you of the opportunity to participate in the upcoming scoping meetings identified below, and to solicit your scoping comments.

Scoping Meetings

AEC and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting

Monday, December 10, 2001, 1:30 pm to 3:00 pm

Alabama Electric Cooperative, Inc., Headquarter's Board Room, 2027 East Three Notch Street, P.O. Box 550, Andalusia, AL 36420-0550

Site Visit

Monday, December 10, 2001 from 3:30 pm to 5:00 pm, depart from and returning to AEC Headquarters Building

Evening Meeting

Monday, December 10, 2001, 7 pm to 9:00 pm

Alabama Electric Cooperative, Inc., Headquarter's Board Room, 2027 East Three Notch Street, P.O. Box 550, Andalusia, AL 36420-0550

To help focus discussions, Scoping Document 1 was mailed in November 2001, outlining the subject areas to be addressed in the APEA to the parties on the mailing list. Copies of the SD1 also will be available at the scoping meetings. SD1 may also be viewed on the web at http://www.ferc.gov using the “RIMS” link—select “Docket#” and follow the instructions (call 202-208-2222 for assistance).

Based on all written comments received, a Scoping Document 2 (SD2) may be issued. SD2 will include a revised list of issues, based on the scoping sessions.

Objectives.

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures.

The meetings will be recorded by a stenographer and will become part of the formal record of the Commission proceeding on the project.

Individuals, organizations, and agencies with environmental expertise and concerns are encouraged to attend the meetings and to assist AEC in defining and clarifying the issues to be addressed in the APEA.

David P. Boergers,
Secretary.

[FR Doc. 01-27768 Filed 11-5-01; 8:45 am]

BILLING CODE 6717-01-P